COMMISSION ON CIVIL RIGHTS

Sunshine Act Meeting Notice

AGENCY: United States Commission on Civil Rights.

ACTION: Notice of Commission Briefing and Business Meeting.

DATES: Friday, February 19, 2016, at 9 a.m. EST.

ADDRESSES: Place: National Place Building, 1331 Pennsylvania Ave. NW., 11th Floor, Suite 1150, Washington, DC 20245 (Entrance on F Street NW.).

FOR FURTHER INFORMATION CONTACT: Gerson Gomez, Media Advisor at telephone: (202) 376-8371, TTY: (202) 376-8116 or email: publicaffairs@usccr.gov.

SUPPLEMENTARY INFORMATION: This business meeting is open to the public. If you would like to listen to the briefing or business meeting, please contact the above for the call-in information.

Hearing-impaired persons who will attend the briefing and require the services of a sign language interpreter should contact Pamela Dunston at (202) 376-8105 or at signlanguage@usccr.gov at least seven business days before the scheduled date of the meeting. During the briefing portion, Commissioners will ask questions and discuss the briefing topic with the panelists. The public may submit written comments on the topic of the briefing to the above address for 30 days after the briefing. Please direct your comments to the attention of the “Staff Director” and clearly mark “Briefing Comments Inside” on the outside of the envelope. Please note we are unable to return any comments or submitted materials.

Comments may also be submitted by email to qccomments@usccr.gov.

Meeting Agenda

I. Approval of Agenda

II. Quiet Crisis Briefing Federal Funding and the Unmet Physical and Legal Infrastructure Needs of Indian Country

A. Opening Remarks: 9:00 a.m.-9:10 a.m.

B. Panel 1: Native American Advocacy Groups: 9:10 a.m.-10:30 a.m.

Speakers' Remarks

• Jacqueline Pata, National Congress of the American Indian

• Ahniwake Rose, National Indian Education Association

• Stacey Bohlen, National Indian Health Board

• Dante Desiderio, Native American Finance Officers Association

• Sarah Deer, William Mitchell College of Law

Questions from Commissioners

C. Panel 2: Federal Government Officials: 10:35 a.m.-12:00 p.m.

Speakers' Remarks

• William Mendoza, White House Initiative on American Indian and Alaska Native Education

• Tracy Toulou, U.S. Department of Justice, Office of Tribal Justice

• Robert McSwain, Indian Health Service

• Randy Akers, U.S. Department of Housing and Urban Development, Office of Native Programs

Questions from Commissioners

III. Business Meeting

A. Program Planning

• Discussion and vote on the part B proposed findings and recommendations for the Peaceful Coexistence Report

• Discussion of plan for revision of report on the effect of undocumented workers on African-American employment

B. Advisory Committees

• Vote on appointments to the Ohio Advisory Committee

• Presentation by Mississippi Advisory Committee Chair on child care subsidies report

C. Management and Operations

• Staff Director's Report

• Submission of Spending Plan to Congressional appropriation committees

• Submission of FY2017 Budget justification transmitted to Congress as part of President's Budget Request

D. Other

V. Adjourn Meeting

Dated: February 9, 2016.
David Mussatt,
Regional Programs Unit Chief, U.S. Commission on Civil Rights.

[FR Doc. 2016-02992 Filed 2-10-16; 11:15 am]

BILLING CODE 6335-01-P